DEPARTMENT OF LABOR

Employment and Training Administration

TA-W-72,953

Matthews International Corporation, Bronze Division, Kingwood, WV; Notice of Negative Determination on Reconsideration

On January 28, 2011, the Department of Labor issued an Affirmative Determination Regarding Application for Reconsideration for workers and former workers of Matthews International Corporation, Bronze Division, Kingwood, West Virginia (subject firm). The Department's Notice of determination was published in the Federal Register on February 10, 2011 (76 FR 7584). Workers were engaged in the production of cast bronze memorial products.

The initial investigation resulted in a negative determination based on the findings that, during the relevant period, the subject firm did not import articles like or directly competitive with those produced at the subject firm, or shift to/acquire from a foreign country the production of these articles. The Department's survey of the subject firm's major declining customers regarding their purchases of cast bronze memorial products (and like or directly competitive articles) in 2007, 2008, 2009, and during January through February 2010 revealed no imports.

In the request for reconsideration, the petitioner alleged that, during the relevant time period, the subject firm had transferred equipment from the subject facility to Mexico and that the subject worker group was impacted by customer imports.

During the reconsideration investigation, the Department requested the subject firm to submit a new Confidential Data Request form, collected new information to address the allegations, and obtained clarification of previously-submitted information. The Department also obtained additional U.S. aggregate import data of articles like or directly competitive with those produced by the subject worker group.

Based on a careful review of information obtained during the initial and reconsideration investigations, the Department determines that imports of articles like or directly competitive with the cast bronze memorial products manufactured at the subject firm did not contribute importantly to worker group separations and to subject firm sales/production declines. Therefore, the criteria set forth in Section 222(a) have not been met.

Conclusion

After careful reconsideration, I affirm the original notice of negative determination of eligibility to apply for worker adjustment assistance for workers and former workers of Matthews International Corporation, Bronze Division, Kingwood, West Virginia.

Signed in Washington, DC, this 27th day of June, 2011.
Del Min Amy Chen,
Certifying Officer, Office of Trade Adjustment Assistance.

[FR Doc. 2011-17091 Filed 7-7-11; 8:45 am]

BILLING CODE 4510-FN-P